FEDERAL RETIREMENT THRIFT INVESTMENT BOARD

Employee Thrift Advisory Council; Open Meeting

In accordance with section 10(a)(2) of the Federal Advisory Committee Act (Pub. L. 92-463), a notice is hereby given of the following committee meeting:

Name: Employee Thrift Advisory Council.

Time: 10 a.m.

Date: September 23, 2003.

Place: 4th Floor, Conference Room, Federal Retirement Thrift Investment Board, 1250 H Street, NW., Washington, DC.

Status: Open.

Matters To Be Considered

1. Nomination of Council Chairman and election of Vice Chairman.

2. Report of the Executive Director on Thrift Savings Plan status.

3. Settlement of AMS lawsuit.

4. New TSP record keeping system.

5. Legislation.

6. New Business.

For further information contact Elizabeth S. Woodruff, Committee Management Officer, on (202) 942-1660.

Dated: September 8, 2003.
Elizabeth S. Woodruff,
General Counsel, Federal Retirement Thrift Investment Board.

[FR Doc. 03-23200 Filed 9-11-03; 8:45 am]

BILLING CODE 6760-01-M